NATIONAL SCIENCE FOUNDATION

Sunshine Act Meetings; National Science Board; Amendments

The National Science Board, pursuant to National Science Foundation (NSF) regulations (45 CFR part 614), the National Science Foundation Act, as amended (42 U.S.C. 1862n-5), and the Government in the Sunshine Act (5 U.S.C. 552b), hereby gives notice of A CHANGE IN THE SCHEDULING OF TWO COMMITTEE MEETINGS during the National Science Board meetings on November 18-19, 2015.

FEDERAL REGISTER CITATION OF PREVIOUS ANNOUNCEMENT: The original notice appeared in the Federal Register on November 13, 2015 at 80 FR 70259.

PREVIOUSLY ANNOUNCED TIME AND DATE OF THE MEETING:

Ad hoc Task Force on NEON Performance and Plans (NPP)

Closed Session: 2:00-2:45 p.m., November 18, 2015.

Committee on Programs and Plans (CPP)

Closed Session: 3:00-3:50 p.m., November 18, 2015.

CHANGES IN THE MEETING:

New Times:

Committee on Programs and Plans (CPP)

Closed Session: 2:00-2:50 p.m., November 18, 2015.

Ad hoc Task Force on NEON Performance and Plans (NPP)

Closed Session: 3:05-3:50 p.m., November 18, 2015.

Updates: Please refer to the National Science Board Web site for additional information. Meeting information and schedule updates (time, place, subject matter or status of meeting) may be found at http://www.nsf.gov/nsb/meetings/notices.jsp.

Kyscha Slater-Williams,
Program Specialist, National Science Board.

[FR Doc. 2015-29482 Filed 11-13-15; 4:15 pm]

BILLING CODE 7555-01-P